DEPARTMENT OF TRANSPORTATION

Coast Guard

33 CFR Part 100

[CGD11-00-016]

RIN 2115-AE46

Special Local Regulations: San Diego Christmas Boat Parade of Lights

AGENCY: Coast Guard, DOT.

ACTION: Notice of implementation.

SUMMARY: This notice implements 33 CFR 100.1101, Southern California annual marine events, for the San Diego Christmas Boat Parade of Lights. The event will consist of private vessels approximately 10 to 60 feet in length with Christmas lights formed in a parade through the San Diego Harbor. These regulations will be effective on that portion of San Diego Harbor, from the northern portion of the main channel from Seaport Village to the Shelter Island Yacht Basin. Notice of Implementation of 33 CFR 100.1101 is necessary to control vessel traffic in the regulated areas during the event to ensure the safety of participants and spectators.

Pursuant to 33 CFR 100.1101(b)(3), Commanding Officer, Coast Guard Activities San Diego, is designated Patrol Commander for this event; he has the authority to delegate this responsibility to any commissioned, warrant, or petty officer of the Coast Guard.

EFFECTIVE DATES: This section is effective on December 10, 2000 from 2:00 p.m. (PST) until 10:00 p.m. (PST) and on December 17, 2000 from 5:00 p.m. until 10:00 p.m. (PST). If the event concludes prior to the scheduled termination date and/or time, the Coast Guard will cease enforcement of this section and will announce that fact via Broadcast Notice to Mariners.

FOR FURTHER INFORMATION CONTACT: Petty Officer Nicole Lavorgna, U.S. Coast Guard MSO San Diego, San Diego, California; Telephone: (619) 683-6495.

Discussion of Implementation. These Special Local Regulations permit Coast Guard control of vessel traffic in order to ensure the safety of spectator and participant vessels. In accordance with the regulations in 33 CFR 100.1101, no persons or vessels shall block, anchor, or loiter in the regulated area; nor shall any person or vessel transit through the regulated area, or otherwise impede the transit of participant or official patrol vessels in the regulated area, unless cleared for such entry by or through an official patrol vessel acting on behalf of the Patrol Commander.

Dated: November 21, 2000.
C.D. Wurster,
U.S. Coast Guard, Commander, Eleventh Coast Guard District, Acting.

[FR Doc. 00-30446 Filed 11-28-00; 8:45 am]

BILLING CODE 4910-15-P